DEPARTMENT OF DEFENSE

Department of the Army

Availability for Non-Exclusive, Exclusive, or Partially Exclusive Licensing of U.S. Patent Application Concerning Self-Piercing Pulse Oximeter Sensor Assembly

AGENCY: U.S. Army Medical Research and Materiel Command, DoD.

ACTION: Notice.

SUMMARY: In accordance with 37 CFR 404.6, announcement is made of the availability for licensing of U.S. Patent Application Serial Number 09/389,347 entitled “Self-Piercing Pulse Oximeter Sensor Assembly”, filed September 3, 1999. Foreign rights are also available. This patent application has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Paul Mele, Office of Research & Technology Assessment, (301) 619-6664. Both at telefax (301) 619-5034.

SUPPLEMENTARY INFORMATION: A self-piercing pulse oximeter sensor for attachment to a subject. The device includes a flexible pulse oximeter sensor, an earring post, and a grommet. The earring post may be used as a piercing device if there is not a pierced body part suitable for attaching the pulse oximeter sensor to the body. Otherwise the earring post may be slid into the pierced hole. In either case, the tip of the earring post engages a grommet once passing through the body part. Thus, the pulse oximeter sensor functions in a transilluminance mode by transmitting light through the pierced body part.

Gregory D. Showalter,
Army Federal Register Liaison Officer.

[FR Doc. 00-21656 Filed 8-23-00; 8:45 am]

BILLING CODE 3710-08-U